DEPARTMENT OF ENERGY

Federal Energy Regulatory Commission

[Project No. 2954-020]

City of Santa Barbara, CA; Notice of Availability of Final Environmental Assessment

January 18, 2001.

A final environmental assessment (FEA) for Project No. 2954-020 is available for public review. The FEA examines the City of Santa Barbara, California's proposal to surrender its license for the Gibraltar Hydroelectric Project. The hydroelectric facilities to be abandoned are located at the head of Lauro Canyon, a tributary to Diablo Creek, in Santa Barbara County, California.

The FEA was written by staff in the Office of Energy Projects, Federal Energy Regulatory Commission. Copies of the FEA can be viewed in the Public Reference Branch, Room 2A, of the Commission's offices at 888 First Street, NE., Washington, DC 20426, or by calling (202) 208-1371. This document may be viewed on http://www.ferc.fed.us/online/rims.htm (call (202) 208-2222 for assistance).

For further information, contact the environmental project manager, Paul Friedman, at (202) 208-1108.

David P. Boergers,
Secretary.

[FR Doc. 01-2071 Filed 1-23-01; 8:45 am]

BILLING CODE 6717-01-M